DEPARTMENT OF THE INTERIOR

National Park Service

Availability of Funding for Acquisition of Civil War Battlefield Land

AGENCY: National Park Service, Department of the Interior.

ACTION: Availability of Funding for Acquisition of Civil War Battlefield Land.

SUMMARY: The National Park Service (NPS) announces the availability of funds to assist States and local communities in acquiring for permanent protection lands, or interests in lands, at significant Civil War battlefield sites.

Under Public Law (Pub. L.) 110-5, making appropriations to the Department of Interior in FY 2007, Congress appropriated $4 million from the Land & Water Conservation Fund (LWCF) to assist non-federal efforts to acquire and preserve Civil War battlefield lands. NPS seeks proposals from State and local governments—or from qualified non-profit historic preservation organizations acting through an agency of State or local government—for the non-federal acquisition of significant Civil War battlefield land.

Project proposals are subject to the following requirements.

1. These funds must be matched on a dollar-for-dollar basis with non-federal dollars. That is, the federal dollars can pay for no more than one-half of the acquisition cost.

2. The purchase price must be supported by a qualified appraisal that has been approved by NPS as meeting the Uniform Appraisal Standards for Federal Land Acquisitions.

3. The battlefield land acquired with the assistance of these funds must be permanently protected from inappropriate development through conveyance of a perpetual easement to a public historic preservation agency.

NPS will give priority to acquisition of land, or interests in land, within the “core” areas of Priority I and Priority II battlefields, as identified by the Congressionally-chartered Civil War Sites Advisory Commission (CWSAC). Among potential projects, NPS will give highest priority to acquisition projects that can be completed within the immediate future.

Proposals may be submitted at any time, and must include:

(1) CWSAC Priority Listing and Map

The applicant must include the CWSAC priority listing and document that the proposed acquisition lies within the battlefield core and/or study area, as defined by the CWSAC. Applicants must submit a U.S. Geological Survey quadrangle map with the boundaries of the proposed acquisition clearly drawn.

(2) Threat to the Battlefield

The applicant must demonstrate that the battlefield is imminently threatened. The nature, the extent, and the level of severity of the threat to the battlefield must be clearly and convincingly stated. Further, the applicant must describe how and to what extent the proposed acquisition addresses the described threat. In cases where there is minimal threat, applications will be considered if there is a stated compelling reason why the acquisition of the property at this time is a better use of LWCF funds than waiting for a more threatened property.

(3) Ability To Secure Non-Federal Match

An applicant that has secured matching funds must list all sources of those funds. The applicant must certify that the non-federal matching funds are either “in-hand” or otherwise committed in writing at the time of application. Third-party matching share commitments must be documented by letter from the third party. Matching share commitments contingent upon receipt of federal funds from this program are acceptable.

An applicant that has not yet secured matching funds must submit a specific, credible plan for raising the necessary matching funds. The plan must identify potential sources of funds. It must include a proposed schedule, usually not more than 120 days, for securing funds or commitments of funds.

(4) Immediacy of Acquisition

The applicant must demonstrate that the owner of the property to be acquired is willing to sell the land at an agreed-upon price. Acceptable documentation includes a contract or contingent contract to buy the land, or a letter from the owner indicating willingness to enter into such a contract at a specified price. The applicant should include a schedule for completion of the acquisition within the near future.

ADDRESSES: Funding proposals should be mailed to: Paul Hawke, Chief, American Battlefield Protection Program, National Park Service, 1849 C Street, NW., Org. Code 2255, Washington, DC 20240, telephone (202) 354-2023.

FOR FURTHER INFORMATION CONTACT: Paul Hawke, Chief, American Battlefield Protection Program, National Park Service, 1849 C Street, NW., Org Code 2255, Washington, DC 20240, telephone (202) 354-2023.

SUPPLEMENTARY INFORMATION: Guidelines and submittal instructions may be found at the American Battlefield Protection Program Web site: http://www.cr.nps.gov/hps/abpp/index2.htm.

Dated: May 2, 2007.
Paul Hawke,
Chief, American Battlefield Protection Program.

[FR Doc. E7-13527 Filed 7-11-07; 8:45 am]

BILLING CODE 4312-52-P